DEPARTMENT OF DEFENSE

Department of the Army

[Docket ID: USA-2011-0024]

Privacy Act of 1974; System of Records; Correction

AGENCY: Department of the Army, Department of Defense (DoD).

ACTION: Notice to add a system of records; correction.

SUMMARY: On October 5, 2011 (76 FR 61680-61682), DoD published a notice announcing its intent to add a new Privacy Act System of Records. The Contesting Records category was inadvertently omitted. This notice corrects that error.

FOR FURTHER INFORMATION CONTACT: Mr. Leroy Jones, Department of the Army, Privacy Office, U.S. Army Records Management and Declassification Agency, 7701 Telegraph Road, Casey Building, Suite 144, Alexandria, VA 22325-3905, or by phone at (703) 428-6185.

SUPPLEMENTARY INFORMATION: On October 5, 2011, DoD published a notice announcing its intent to add a new system to its inventory of Privacy Act System of Records: A0350-20a TRADOC, Standardized Student Records System. Subsequent to the publication of that notice, DoD discovered that the Contesting Records category was inadvertently omitted.

Correction

In the notice published on October 5, 2011 (76 FR 61680-61682) make the following correction: On page 61682, in the third column, before the RECORD SOURCE CATEGORIES paragraph, add “CONTESTING RECORDS PROCEDURES: The Army's rules for accessing records, and for contesting contents and appealing initial agency determinations are contained in Army Regulation 340-21; 32 CFR part 505; or may be obtained from the system manager.”

Dated: October 5, 2011.
Aaron Siegel,
Alternate OSD Federal Register Liaison Officer, Department of Defense.

[FR Doc. 2011-26155 Filed 10-7-11; 8:45 am]

BILLING CODE 5001-06-P